DEPARTMENT OF AGRICULTURE

Agricultural Marketing Service

7 CFR Part 51

[Docket Number FV-04-310]

RIN 0581-AC46

Revision of Fees for the Fresh Fruit and Vegetable Terminal Market Inspection Services

AGENCY: Agricultural Marketing Service, USDA.

ACTION: Proposed rule; reopening and extension of comment period.

SUMMARY: Notice is hereby given that the comment period on the proposed Revision of Fees for the Fresh Fruit and Vegetable Terminal Market Inspection Service is reopened and extended. This action will allow interested persons additional time to prepare and submit comments.

DATES: Comments must be postmarked, courier dated, or sent via the internet on or before November 3, 2005.

ADDRESSES: Interested persons are invited to submit written comments concerning this proposal. Comments can be sent to: (1) Department of Agriculture, Agricultural Marketing Service, Fruit and Vegetable Programs, Fresh Products Branch, 1400 Independence Ave., SW., Room 0640-S, Washington, DC 20250-0295, faxed to (202) 720-5136; (2) via e-mail to FPB.DocketClerk@usda.gov.; or (3) Internet: http://www.regulations.gov. All comments should make reference to the date and page number of this issue of the Federal Register and will be made available for public inspection in the above office during regular business hours.

FOR FURTHER CONTACT INFORMATION: Rita Bibbs-Booth, USDA, 1400 Independence Ave., SW., Room 0640-S, Washington, DC 20250-0295, or call (202) 720-0391.

SUPPLEMENTARY INFORMATION: A proposed rule was published in the Federal Register on August 25, 2005 (70 FR 49882) requesting comments on the proposed Revision of Fees for the Fresh Fruit and Vegetable Terminal Market Inspection Services. Comments on the proposed rule were required to be received on or before September 26, 2005. A comment was received from an industry association, representing independent produce wholesale receivers, expressing the need for additional time to comment. The association requested the comment period be extended to allow the association an opportunity to meet with their members to discuss the impact of the proposed fee increase.

After reviewing the commenter's request, AMS is reopening and extending the comment period in order to allow sufficient time for interested persons, including the association, to prepare and submit comments

Dated: October 14, 2005.
Kenneth C. Clayton,
Acting Administrator, Agricultural Marketing Service.

[FR Doc. 05-20961 Filed 10-19-05; 8:45 am]

BILLING CODE 3410-02-P